DEPARTMENT OF HOUSING AND URBAN DEVELOPMENT

[Docket No. FR-6191-N-02]

Section 8 Housing Choice Vouchers: Implementation of the Housing Choice Voucher Mobility Demonstration, Extension of Application Due Date

AGENCY: Office of the Assistant Secretary for Public and Indian Housing (PIH), Department of Housing and Urban Development (HUD).

ACTION: Notice of extension of application due date.

SUMMARY: On July 15, 2020, HUD published a notice (“Notice”) implementing the Housing Choice Voucher (HCV) mobility demonstration (“demonstration”) authorized by the Consolidated Appropriations Act, 2019. Through this Notice, HUD is making available up to $50,000,000 to participating PHAs throughout the country to implement housing mobility programs by offering mobility-related services to increase the number of voucher families with children living in opportunity areas. The Notice established October 13, 2020 as the deadline date for submission of PHA applications. Today's Federal Register publication extends the deadline date for the submission of applications to December 14, 2020.

DATES: The new application deadline date for the HCV Mobility Demonstration Program is December 14, 2020.

FOR FURTHER INFORMATION CONTACT: Rebecca Primeaux, Director, Housing Voucher Management and Operations Division, Department of Housing and Urban Development, 451 Seventh Street SW, Room 4214, Washington, DC 20410, telephone number (202) 708-1112. (This is not a toll-free number.) Individuals with hearing or speech impediments may access this number via TTY by calling the Federal Relay during working hours at 800-877-8339. (This is a toll-free number.) HUD encourages submission of questions about the demonstration be sent to HCVmobilitydemonstration@hud.gov.

SUPPLEMENTARY INFORMATION: On July 15, 2020 (85 FR 42890), HUD published its Notice implementing the HCV Mobility Demonstration, and established October 13, 2020 as the deadline date for the submission of applications. Through the Notice, HUD is making available approximately $50 million for grants to Public Housing Authorities (PHAs) under a demonstration program authorized by statute.

Today's Federal Register publication extends the deadline date for the submission of applications for the HCV Mobility Demonstration program to December 14, 2020. HUD is extending the application submission deadline date to ensure that delays or complications due to the COVID-19 Coronavirus do not cause undue hardship or otherwise prevent applicants from submitting complete applications.

Deadline for Applications

The lead agency shall be responsible for submitting the application to HUD, no later than December 14, 2020. Applications that are submitted after midnight on December 14, 2020, or which fail to include the required elements, will be ineligible for consideration by HUD.

HUD may extend the application deadline for any program if HUD.gov systems are offline or not available to applicants for at least 24 hours immediately prior to the deadline date, or if the system is down for 24 hours or longer and that impacts the ability of applicants to cure a submission deficiency within the grace period. HUD may also extend the application deadline upon request if there is a presidentially-declared disaster in the applicant's area. If these events occur, HUD will post a notice on its website establishing the new, extended deadline for the affected applicants.

R. Hunter Kurtz,
Assistant Secretary for Public and Indian Housing.

[FR Doc. 2020-22130 Filed 10-7-20; 8:45 am]

BILLING CODE 4210-67-P